DEPARTMENT OF ENERGY

Federal Energy Regulatory Commission

Notice of Staff Attendance at North American Electric Reliability Corporation Meetings

The Federal Energy Regulatory Commission hereby gives notice that members of the Commission and/or Commission staff may attend the following hybrid meetings:

North American Electric Reliability Corporation: Member Representatives Committee Meeting:

NERC DC Office, 1401 H Street NW, Suite 410, Washington, DC 20005

In person attendance is limited to NERC's Board of Trustees, the Member Representative Committee, and NERC staff.

May 8, 2024 | 3:30 p.m.-5:30 p.m. Eastern

Further information regarding this meeting and how to join remotely may be found at: https://www.nerc.com/gov/bot/MRC/AgendaHighlightsnadMinutes2013/MRC-Agenda-Package-May-08-2024.pdf.

North American Electric Reliability Corporation: Board of Trustees Meeting:

NERC DC Office, 1401 H Street NW, Suite 410, Washington, DC 20005

In person attendance is limited to NERC's Board of Trustees, the Member Representative Committee, and NERC staff.

May 9, 2024 | 9:00 a.m.-10:30 a.m. Eastern

Further information regarding this meeting and how to join remotely may be found at: https://www.nerc.com/gov/bot/AgendahighlightsandMintues2013/BoardofTrusteesAgendaPackage-May92024.pdf.

The discussions at the meetings, which are open to the public, may address matters at issue in the following Commission proceedings:

Docket Nos. RR24-2-000 North American Electric Reliability Corporation, RD24-5-000 Cold Weather Reliability Standards

For further information, please contact Chanel Chasanov, 202-502-8569, or chanel.chasanov@ferc.gov.

Dated: April 29, 2024.
Debbie-Anne A. Reese,
Acting Secretary.

[FR Doc. 2024-09683 Filed 5-2-24; 8:45 am]

BILLING CODE 6717-01-P